DEPARTMENT OF JUSTICE

Immigration and Naturalization Service

Agency Information Collection Activities: Proposed Collection; Comment Request

ACTION: Notice of information collection under review; application for naturalization.

The Department of Justice, Immigration and Naturalization Service (INS) has submitted the following information collection request for review and clearance in accordance with the Paperwork Reduction Act of 1995.

The INS published a Federal Register notice on October 16, 1998 at 63 FR 55643 to solicit public comments for a 60-day period regarding an initial draft revision of this collection (Form N-400). In order to encourage more comments, the INS published a second Federal Register notice on January 8, 1999 at 64 FR 1219, exhibiting a draft of the revised form and soliciting public comments for an additional 60 days. During the two comment periods a total of 20 organizations and individuals submitted comments concerning the proposed revisions to the Form N-400. The comments were reviewed and reconciled by the responsible program office and this proposed form as now published in the Federal Register for information purposes only, incorporates the additional suggestions and changes recommended by interested parties.

The public is reminded that the current Form N-400 dated January 15, 1999, must be used until OMB approves the revision of this form and INS announces the implementation date for use of the revised Form N-400.

The purpose of this notice is to allow an additional 60 days for public comments on the proposed revised form to ensure compliance with the Paperwork Reduction Act. Comments are encouraged and will be accepted until August 28, 2000. This process is conducted in accordance with 5 CFR 1320.10.

Written comments and/or suggestions regarding the items contained in this notice, especially regarding the estimated public burden and associated response time, should be directed to the Office of Management and Budget, Office of Information and Regulatory Affairs, Attention: Lauren Wittenberg, Department of Justice Desk Officer, Room 10235, Washington, DC 20530; 202-395-4718.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Revision of a currently approved collection.

(2) Title of the Form/Collection: Application for Naturalization.

(3) Agency form number, if any, and the applicable component of the Department of Justice sponsoring this collection: Form N-400, Immigration Services Division, Immigration and Naturalization Service.

(4) Affected public who will be asked or required to respond, as well as a brief abstract: Primary: Individuals or Households. The information collected is used by the INS to determine eligibility for naturalization.

(5) An estimate of the total number of respondents and the amount of time estimated for an average respondent to respond: 700,000 responses at 6 hours per response.

(6) An estimate of the total public burden (in hours) associated with the collection: 4,200,000 annual burden hours.

If you have additional comments, suggestions, or need a copy of the proposed information collection instrument with instructions, or additional information, please contact Richard A. Sloan 202-514-3291, Director, Policy Directives and Instructions Branch, Immigration and Naturalization Service, U.S. Department of Justice, Room 5307, 425 I Street, NW., Washington, DC 20536. Additionally, comments and/or suggestions regarding the item(s) contained in this notice, especially regarding the estimated public burden and associated response time may also be directed to Mr. Richard A. Sloan.

If additional information is required contact: Mr. Robert B. Briggs, Clearance Officer, United States Department of Justice, Information Management and Security Staff, Justice Management Division, Suite 850, Washington Center, 1001 G Street, NW, Washington, DC 20530.

Dated: June 22, 2000.
Richard A. Sloan,
Department Clearance Officer, Department of Justice, Immigration and Naturalization Service.

[FR Doc. 00-16258 Filed 6-27-00; 8:45 am]

BILLING CODE 4410-10-M